NATIONAL CREDIT UNION ADMINISTRATION

Notice of Meeting

Time and Date: 1:30 p.m., Tuesday, January 23, 2007.

Place: Board Room, 7th Floor, Room 7047, 1775 Duke Street, Alexandria, VA 22314-3428.

Status: Closed.

Matters to be Considered: 1. Part 703 of NCUAs Rules and Regulations, Pilot Program Request. Closed pursuant to Exemption (4).

For Further Information Contact: Mary Rupp, Secretary of the Board, Telephone: 703-518-6304.

Mary Rupp,
Secretary of the Board.

[FR Doc. 07-206 Filed 1-16-07; 1:44 pm]

BILLING CODE 7535-01-M